COMMODITY FUTURES TRADING COMMISSION

17 CFR Part 16

RIN 3038-AC63

Account Ownership and Control Report

AGENCY: Commodity Futures Trading Commission (“Commission”).

ACTION: Extension of comment period.

SUMMARY: The Commission is extending the comment period for the Notice of Proposed Rulemaking (“NPRM”) that calls for the collection of ownership, control and related information.¹ The new deadline for submitting public comments is October 7, 2010.

¹ 75 FR 41775 (July 19, 2010).

DATES: Written comments must be received on or before October 7, 2010.

ADDRESSES: Comments should be sent to David Stawick, Secretary, Commodity Futures Trading Commission, Three Lafayette Centre, 1155 21st Street, NW., Washington, DC 20581. Comments may be submitted via e-mail at OCR@cftc.gov. “Account Ownership and Control Report” must be in the subject field of responses submitted via e-mail, and clearly indicated on written submissions. Comments may also be submitted by connecting to the Federal eRulemaking Portal at http://www.regulations.gov and following comment submission instructions. All comments must be submitted in English, or if not, must be accompanied by an English translation.

FOR FURTHER INFORMATION CONTACT: Sebastian Pujol Schott, Associate Deputy Director, Market Compliance, 202-418-5641, or Cody J. Alvarez, Attorney Advisor, 202-418-5404, Division of Market Oversight, Commodity Futures Trading Commission, Three Lafayette Centre, 1155 21st Street, NW., Washington, DC 20581.

SUPPLEMENTARY INFORMATION: On July 19, 2010, the Commission published for public comment a NPRM, where it proposed to collect certain ownership and control information via an account “Ownership and Control Report” submitted weekly by all U.S. futures exchanges and other reporting entities. The NPRM established a 60-day period for submitting public comment, ending September 17, 2010. On September 16, 2010, Commission staff intends to hold a public roundtable meeting at which invited participants will discuss issues arising from the Commission's NPRM. Shortly after the public roundtable meeting, a transcript of the meeting will be published on the Commission's Account Ownership and Control Report public comment page at http://www.cftc.gov/LawRegulation/PublicComments/10-009.html. In order to give interested parties time to prepare comments on matters that were discussed at the public roundtable meeting, the Commission has determined to extend the comment period for the NPRM by an additional twenty days to October 7, 2010.

Issued in Washington, DC on September 1, 2010 by the Commission.
David A. Stawick,
Secretary of the Commission.

[FR Doc. 2010-22398 Filed 9-8-10; 8:45 am]

BILLING CODE P